DEPARTMENT OF HOMELAND SECURITY

Federal Emergency Management Agency

44 CFR Part 67

[Docket ID FEMA-2008-0020; Internal Agency Docket No. FEMA-B-1016]

Proposed Flood Elevation Determinations

AGENCY: Federal Emergency Management Agency, DHS.

ACTION: Proposed rule; correction.

SUMMARY: On November 5, 2008, FEMA published in the Federal Register a proposed rule that contained an erroneous table. This notice provides corrections to that table, to be used in lieu of the information published at 73 FR 65816 through 65817. The table provided here represents the flooding source, location of referenced elevation, effective and modified elevation, and communities affected for St. Joseph County, Michigan (All Jurisdictions).

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Correction

In the proposed rule published at 73 FR 65816 through 65817, in the November 5, 2008 issue of the Federal Register, FEMA published a table under the authority of 44 CFR 67.4. The table, entitled “St. Joseph County, Michigan and Incorporated Areas” addressed flooding sources countywide. That table contained inaccurate information as to the location of referenced elevation, effective and modified elevation in feet, or communities affected for these flooding sources. In this notice, FEMA is publishing a table containing the accurate information, to address these prior errors. The information provided below should be used in lieu of that previously published notice.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
St. Joseph County, Michigan, and Incorporated Areas
Adams Lake | Entire shoreline of Adams Lake | None | +843 | Township of Leonidas.
Clear Lake | Entire shoreline of Clear Lake | None | +876 | Township of Fabius.
Corey Lake | Entire shoreline of Corey Lake | None | +877 | Township of Fabius.
Fishers Lake | Entire shoreline of Fishers Lake | None | +815 | Township of Park.
Flowerfield Creek | Approximately 0.8 mile downstream of M 216 (Marcellus Road) | None | +817 | Township of Flowerfield.
| Approximately 0.3 mile upstream of Main Street on the St. Joseph County/Kalamazoo County border | None | +842
Kaiser Lake | Entire shoreline of Kaiser Lake | None | +877 | Township of Fabius.
Lake Templene | Entire shoreline of Lake Templene | None | +831 | Township of Sherman.
Long Lake | Entire shoreline of Long Lake | None | +892 | Township of Fabius.
Mud Lake | Entire shoreline of Mud Lake | None | +877 | Township of Fabius.
Pleasant Lake | Entire shoreline of Pleasant Lake | None | +853 | Township of Fabius.
Spring Creek | At confluence with Flowerfield Creek | None | +821 | Township of Flowerfield, Township of Park.
| Approximately 0.6 mile upstream of Quake Road on the St. Joseph County/Kalamazoo County border | None | +844
St. Joseph River | Approximately 0.7 mile downstream of Wakeman Road | None | +829 | Township of Mendon.
| Approximately 350 feet downstream of Wakeman road | None | +829
Unnamed pond | Entire shoreline of Unnamed pond | None | +815 | Township of Park.

Dated: January 27, 2009.
Michael K. Buckley,
Acting Assistant Administrator, Mitigation Directorate, Department of Homeland Security, Federal Emergency Management Agency.

[FR Doc. E9-6704 Filed 3-24-09; 8:45 am]

BILLING CODE 9110-12-P